DEPARTMENT OF AGRICULTURE

Forest Service

Information Collection: A Wood Education and Resource Center Training Registry

AGENCY: Forest Service, USDA.

ACTION: Notice; request for comment.

SUMMARY: In accordance with the Paperwork Reduction Act of 1995, the Forest Service is seeking comments from all interested individuals and organizations on the new information collection for a Wood Education and Resource Center Training Registry.

DATES: Comments must be received in writing on or before October 22, 2007 to be assured of consideration. Comments received after that date will be considered to the extent practicable.

ADDRESSES: Comments concerning this notice should be addressed to Al Steele, Forest Service, USDA, 180 Canfield Street, Morgantown, WV 26505.

Comments also may be submitted via facsimile to 304-285-1505 or by e-mail to: asteele@fs.fed.us.

The public may inspect comments received at Room #215 Forest Service, USDA, 180 Canfield Street, Morgantown, WV 26505 during normal business hours. Visitors are encouraged to call ahead to 304-285-1588 to facilitate entry to the building.

FOR FURTHER INFORMATION CONTACT: Al Steele, Forest Service, USDA, 180 Canfield Street, Morgantown, WV 26505. Phone: 304-285-1588.

Individuals who use TDD may call the Federal Relay Service (FRS) at 1-800-877-8339, 24 hours a day, every day of the year, including holidays.

SUPPLEMENTARY INFORMATION: Title: Wood Education and Resource Center Training Registry

OMB Number: 0596-New.

Type of Request: New.

Abstract:

The USDA Forest Service is developing an online training information system that will enable individuals (trainees) from the primary and secondary wood products industries to locate continuing education training opportunities (such as workshops and short courses) that meet criteria they have established. Trainees can browse through or search for available training opportunities contained in the database, or be informed of relevant workshops and short courses via an e-mail notification system.

Information will be collected through a voluntary online registration system. Training providers will register courses and workshops through an online registration system. Trainees will register through an online form and specify their training needs from a select list of pre-defined categories.

Information to be collected from Training Providers includes: Name, Organization, Location, Telephone Number, Organizational Category and E-mail address, Title of the Training Program, Organization Sponsoring/Conducting the Program, Program Instructors and short biographical information and picture, Workshop Dates and Times, Workshop Location, Registration Fee, Short Description of the Program (30 words), Long Description of the Program (300-1200 words), Course Benefits, Target Audience, Name of Contact Person for Further Information, Telephone Number for Further Information, E-mail Address for Further Information, URL of Web site for Further Information, and Workshop Category from a Predefined List of Categories and Subcategories.

Information to be collected from trainees includes: Name, Occupation/Job Title, Company Name, Industry Category, Location and E-mail address, Training Interests selected from a predefined list of training categories and subcategories, and Frequency of Notification.

Information will be collected from organizations, academic institutions, trade associations, government agencies, companies and consultants that offer continuing education courses for the primary and secondary forest products industry; and individuals within the primary and secondary forest products industry that seek training opportunities.

The collected information will enable trainees to browse through or search for available training opportunities contained in the database, or be informed of relevant workshops and short courses via an e-mail notification system.

The automated notification system will operate by matching training preferences that have been predefined by the trainee with training offerings available from training providers. Participating training organizations (training providers) will register available courses online thru the Online Training Services Registry System. Once a match has been made between the trainee's needs and a course(s) available from a training organization, a notice will be sent to the trainee with additional information on course content, contact information, and related data.

The U.S. Forest Service Wood Education Resource Center will operate and maintain the training information system including use statistics.

The Training Information System is designed to provide a service to training providers and employees (trainees) associated with the primary and secondary forest products industry. Enhancing training opportunities for this industry will keep these national industries competitive in a world market.

Estimate of Annual Burden: 10-20 minutes per respondent (10 minutes for trainees; 20 minutes for training providers).

Type of Respondents: Respondents include individuals (trainees, from the primary and secondary forest products industries) and businesses (providers of continuing education training opportunities, such as workshops and short courses, for the primary and secondary wood products industries).

Estimated Annual Number of Respondents: 3,325 (3,200 trainees and 125 training providers).

Estimated Annual Number of Responses per Respondent: 5 for trainees; 20 for training providers.

Estimated Total Annual Burden on Respondents: 3,501 hours (2,667 hours—trainees, 834 hours—trainers).

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments received will be summarized and included in the request for Office of Management and Budget approval.

Dated: August 17, 2007.
Robin L. Thompson,
Associate Deputy Chief.

[FR Doc. E7-16663 Filed 8-22-07; 8:45 am]

BILLING CODE 3410-11-P